DEPARTMENT OF TRANSPORTATION

Federal Aviation Administration

14 CFR Part 71

[Docket No. FAA-2012-0323; Airspace Docket No. 12-AAL-4]

Amendment of Class E Airspace; Savoonga, AK

AGENCY: Federal Aviation Administration (FAA), DOT.

ACTION: Final rule.

SUMMARY: This action modifies Class E airspace at Savoonga, AK, to accommodate aircraft using Area Navigation (RNAV) Global Positioning System (GPS) standard instrument approach procedures at Savoonga Airport. This action enhances the safety and management of aircraft operations at the airport. An editorial change is made by removing reference to Class E surface airspace entered in error.

DATES: Effective date, 0901 UTC, March 7, 2013. The Director of the Federal Register approves this incorporation by reference action under 1 CFR Part 51, subject to the annual revision of FAA Order 7400.9 and publication of conforming amendments.

FOR FURTHER INFORMATION CONTACT: Richard Roberts, Federal Aviation Administration, Operations Support Group, Western Service Center, 1601 Lind Avenue SW., Renton, WA 98057; telephone (425) 203-4517.

SUPPLEMENTARY INFORMATION:

History

On October 9, 2012, the FAA published in the Federal Register a notice of proposed rulemaking (NPRM) to modify controlled airspace at Savoonga, AK (77 FR 61304). Interested parties were invited to participate in this rulemaking effort by submitting written comments on the proposal to the FAA. No comments were received.

Class E airspace designations are published in paragraph 6005, of FAA Order 7400.9W dated August 8, 2012, and effective September 15, 2012, which is incorporated by reference in 14 CFR part 71.1. The Class E airspace designation listed in this document will be published subsequently in that Order.

The Rule

This action amends Title 14 Code of Federal Regulations (14 CFR) Part 71 by modifying Class E airspace extending upward from 700 feet above the surface, at Savoonga Airport, Savoonga, AK, to accommodate aircraft using the new RNAV (GPS) standard instrument approach procedures at Savoonga Airport, and enhances the safety and management of instrument flight rules operations at the airport. The reference to Class E surface airspace is removed as it was entered in error.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Savoonga Airport, Savoonga, AK. Except for editorial changes and change noted above, this rule is the same as published in the NPRM.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR part 71.1 of the Federal Aviation Administration Order 7400.9W, Airspace Designations and Reporting Points, dated August 8, 2012, and effective September 15, 2012 is amended as follows:

Paragraph 6005 Class E airspace areas extending upward from 700 feet or more above the surface of the earth.

* * * * *

AAL AK E5 Savoonga, AK [Modified]

Savoonga Airport, AK

(Lat. 63°41′11″ N., long. 170°29′35″ W.)

That airspace extending upward from 700 feet above the surface within a 6.4-mile radius of Savoonga Airport, and within 4 miles each side of the 059° bearing of the airport extending from the 6.4-mile radius to 11 miles northeast of the airport; that airspace extending upward from 1,200 feet above the surface within a 30-mile radius of lat. 63°38′25″ N., long. 170°57′44″ W., starting at the 303° bearing of the airport counterclockwise to the 171° bearing of the airport then northeast to lat. 63°20′35″ N., long. 169°36′56″ W., and within a 30-mile radius of lat.63°47′53″ N., long.170°03′36″ W., starting at the 121° bearing of Savoonga Airport counterclockwise to the 352° bearing of the airport, thence to the point of origin.

Issued in Seattle, Washington, on December 31, 2012.
Clark Desing,
Manager, Operations Support Group, Western Service Center.

[FR Doc. 2013-01359 Filed 1-23-13; 8:45 am]

BILLING CODE 4910-13-P